DEPARTMENT OF EDUCATION

President's Advisory Commission on Asian Americans and Pacific Islanders

AGENCY: U.S. Department of Education, President's Advisory Commission on Asian Americans and Pacific Islanders.

ACTION: Announcement of an open meeting.

SUMMARY: This notice sets forth the schedule and agenda of the meeting of the President's Advisory Commission on Asian Americans and Pacific Islanders (AAPI Commission). The notice also describes the functions of the Commission. Notice of the meeting is required by § 10(a)(2) of the Federal Advisory Committee Act and is intended to notify the public of its opportunity to attend.

DATES: The AAPI Commission meeting will be held on May 3, 2016 from 1:00-5:00 p.m. ET and May 4, 2016 from 9:00-12:00 a.m. ET at the U.S. Department of Education, 550 12th Street SW., 10th Floor, Washington, DC 20202.

FOR FURTHER INFORMATION CONTACT: Jennifer Tran, White House Initiative on Asian Americans and Pacific Islanders, Potomac Center Plaza, 550 12th Street SW., Washington, DC 20202; telephone: 202-245-6747.

SUPPLEMENTARY INFORMATION: The AAPI Commission's Statutory Authority and Function: The President's Advisory Commission on Asian Americans and Pacific Islanders is established under Executive Order 13515, dated October 14, 2009 and subsequently continued and amended by Executive Order 13585 and extended on September 30, 2015 by Executive Order 13708. The Commission is governed by the provisions of the Federal Advisory Committee Act (FACA), (Pub. L. 92-463; as amended, 5 U.S.C.A. app.) which sets forth standards for the formation and use of advisory committees. According to Executive Order 13515, the Commission shall provide advice to the President, through the Secretary of Education and a senior official to be designated by the President, on: (i) The development, monitoring, and coordination of executive branch efforts to improve the quality of life of Asian Americans and Pacific Islanders (AAPIs) through increased participation in Federal programs in which such persons may be underserved; (ii) the compilation of research and data related to AAPI populations and subpopulations; (iii) the development, monitoring, and coordination of Federal efforts to improve the economic and community development of AAPI businesses; and (iv) strategies to increase public and private-sector collaboration, and community involvement in improving the health, education, environment, and well-being of AAPIs.

Members of the public who would like to attend the meetings on May 3, 2016 and May 4, 2016, should R.S.V.P. to Jennifer Tran via email at Jennifer.Tran@ed.gov no later than April 25, 2016 at 3:00 p.m. ET.

Submission of Written Comments: Due to time constraints, there will not be a public comment period at these meetings. However, individuals wishing to provide comments regarding the meeting agenda or the Commission's work may send comments to Jennifer Tran via email at Jennifer.Tran@ed.gov. Please include in the subject line the wording, “Public Comment—Commission Meeting.”

Meeting Agenda: The purpose of this meeting is to discuss current and future endeavors of the White House Initiative on Asian Americans and Pacific Islanders and key issues and concerns impacting the AAPI community; review the work of the White House Initiative on Asian Americans and Pacific Islanders; determine key strategies to help meet the Commission's charge as outlined in Executive Order 13515; and determine regional engagement strategies and deliverables around regional activities.

Access to Records of the Meeting: The Department will post the official report of the meeting on the AAPI Commission Web site not later than 90 days after the meeting. Pursuant to the FACA, the public may also inspect the materials at 550 12th Street SW., Washington, DC 20202 by emailing Jennifer.Tran@ed.gov or by calling (202) 245-6747 to schedule an appointment.

Reasonable Accommodations: The meeting site is accessible to individuals with disabilities. Individuals who will need accommodations for a disability in order to attend the meetings (e.g., interpreting services, assistive listening devices, or material in alternative format) should notify Jennifer Tran at 202-245-6747, no later than April 25, 2016. We will attempt to meet requests for accommodations after this date, but cannot guarantee their availability.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF, you must have Adobe Acrobat Reader, which is available free at the site.

You may also access documents of the Department published in the Federal Register by using the article search feature at: www.federalregister.gov. Specifically, through the advanced search feature at this site, you can limit your search to documents published by the Department.

Authority: Executive Order No. 13515, as amended by Executive Orders 13585 continued by Executive Order 13708.

Ted Mitchell,
Under Secretary, U.S. Department of Education.

[FR Doc. 2016-09181 Filed 4-21-16; 8:45 am]

BILLING CODE 4000-01-P